DEPARTMENT OF HEALTH AND HUMAN SERVICES

Health Resources and Services Administration

Organ Procurement and Transplantation Network Status of Living Donor Guidelines

AGENCY: Health Resources and Services Administration (HRSA), HHS.

ACTION: Notification of Review and Access of Public Comments.

SUMMARY: Federal Register Notice (volume 71, number 14, pp 3519-3520) published on January 23, 2006, inadvertently omitted information on the review and access of the material received in response to the solicitation of comments to assist HRSA in determining whether criteria developed by the Organ Procurement and Transplantation Network (OPTN) concerning organs procured from living donors, including those concerning the allocation of organs from living donors, should be given the same status, and be subject to the same enforcement actions, as other OPTN policies.

Docket: For access to the docket to read background documents or comments received, go to the Division of Transplantation, Healthcare Systems Bureau, Health Resources and Services Administration (HRSA), 5600 Fishers Lane, Room 12C-06, Rockville, Maryland 20857 weekdays (Federal holidays excepted) between the hours of 8:30 a.m. and 5 p.m. To schedule an appointment to view public comments, phone (301) 443-7757.

FOR FURTHER INFORMATION CONTACT: Jim Burdick, M.D. at the above address; telephone number (301) 443-7577.

Dated: March 9, 2006.
Elizabeth M. Duke,
Administrator.

[FR Doc. E6-3790 Filed 3-15-06; 8:45 am]

BILLING CODE 4165-15-P